DEPARTMENT OF THE TREASURY

United States Mint

Citizens Coinage Advisory Committee; Public Meeting

ACTION: Notification of Citizens Coinage Advisory Committee June 25, 2013, Public Meeting.

SUMMARY: Pursuant to United States Code, Title 31, section 5135(b)(8)(C), the United States Mint announces the Citizens Coinage Advisory Committee (CCAC) public meeting scheduled for June 25, 2013.

Date: June 25, 2013.

Time: 9:30 a.m. to 2:30 p.m.

Location: Conference Room A, United States Mint, 801 9th Street NW., Washington, DC 20220.

Subject: Review and discussion of candidate designs for the Code Talker Recognition Congressional Medal Program for the Cherokee Nation, Meskwaki Nation (Sac and Fox), Seminole Nation, Fort Peck Assinboine and Sioux Tribes, Ho-Chunk Nation, OgLala Sioux Nation, and Yankton Sioux Nation; review and discussion of design direction for the 2015 America the Beautiful Quarters Program; and review and consideration of the Fiscal Year 2013 Annual Report.

Interested persons should call the CCAC HOTLINE at (202) 354-7502 for the latest update on meeting time and room location.

In accordance with 31 U.S.C. 5135, the CCAC:

Advises the Secretary of the Treasury on any theme or design proposals relating to circulating coinage, bullion coinage, Congressional Gold Medals, and national and other medals.

Advises the Secretary of the Treasury with regard to the events, persons, or places to be commemorated by the issuance of commemorative coins in each of the five calendar years succeeding the year in which a commemorative coin designation is made.

Makes recommendations with respect to the mintage level for any commemorative coin recommended.

FOR FURTHER INFORMATION CONTACT: William Norton, United States Mint Liaison to the CCAC; 801 9th Street NW.; Washington, DC 20220; or call 202-354-7200.

Any member of the public interested in submitting matters for the CCAC's consideration is invited to submit them by fax to the following number: 202-756-6525.

Authority: 31 U.S.C. 5135(b)(8)(C).

Dated: June 10, 2013.
Richard A. Peterson,
Acting Director, United States Mint.

[FR Doc. 2013-14143 Filed 6-13-13; 8:45 am]

BILLING CODE P